INTERNATIONAL TRADE COMMISSION

Agency Form Submitted for OMB Review

AGENCY: United States International Trade Commission.

ACTION: The U.S. International Trade Commission (USITC) has submitted the following information collection requirements to the Office of Management and Budget (OMB) requesting emergency processing for review and clearance under the Paperwork Reduction Act of 1995 (44 U.S.C. Chapter 35). The Commission has requested OMB approval of this submission by COB May 22, 2000. Effective Date: May 2, 2000.

Purpose of Information Collection

The forms are for use by the Commission in connection with investigation No. 332-413, The Economic Impact of U.S. Sanctions with Respect to Cuba, instituted under the authority of section 332(g) of the Tariff Act of 1930 (19 U.S.C. 1332(g)). This investigation was requested by the U.S. House Committee on Ways and Means. The Commission expects to deliver the results of its investigation to the Committee by February 15, 2001.

Summary of Proposal

(1) Number of forms submitted: One.

(2) Title of form: Telephone Survey—The Economic Impact of U.S. Sanctions with Respect to Cuba.

(3) Type of request: New.

(4) Frequency of use: telephone survey, single data gathering, scheduled for 2000.

(5) Description of respondents: Representative selection of U.S. companies and organizations that have been impacted by the imposition of U.S. sanctions on Cuba.

(6) Estimated total number of respondents: 200.

(7) Estimated total number of hours to complete the forms: 100.

(8) Information obtained from the form that qualifies as confidential business information will be so treated by the Commission and not disclosed in a manner that would reveal the individual operations of a firm.

FOR FURTHER INFORMATION CONTACT: Copies of the forms and supporting documents may be obtained from Jonathan R. Coleman, Office of Industries, USITC (202-205-3465). Comments about the proposals should be directed to the Office of Management and Budget, Office of Information and Regulatory Affairs, Room 10102 (Docket Library), Washington, DC 20503, ATTENTION: Docket Librarian. All comments should be specific, indicating which part of the survey is objectionable, describing the concern in detail, and including specific suggested revisions or language changes. Copies of any comments should be provided to Robert Rogowsky, Director, Office of Operations, U.S. International Trade Commission, 500 E Street S.W., Washington, D.C. 20436, who is the Commission's designated Senior Official under the Paperwork Reduction Act.

Hearing impaired individuals are advised that information on this matter can be obtained by contacting our TTD terminal (telephone no. 202-205-1810). General information concerning the Commission may also be obtained by accessing its Internet server (http://www.usitc.gov).

Issued: May 5, 2000.
By order of the Commission.
Donna R. Koehnke,
Secretary.

[FR Doc. 00-11732 Filed 5-9-00; 8:45 am]

BILLING CODE 7020-02-P